DEPARTMENT OF ENERGY

10 CFR Part 430

[Docket No. EERE-2012-BT-STD-0047]

RIN 1904-AC88

Energy Conservation Program for Consumer Products: Energy Conservation Standards for Residential Boilers; Correction

AGENCY: Office of Energy Efficiency and Renewable Energy, Department of Energy.

ACTION: Final rule; technical correction.

SUMMARY: On January 15, 2016, the U.S. Department of Energy (DOE) published a final rule in the Federal Register that amended the energy conservation standards for residential boilers (81 FR 2319). Due to a drafting error, that document recited an ambiguous/erroneous date for compliance with the amended standards at one place in the final rule's preamble. However, the compliance date was correctly provided in the DATES section, as well as the regulatory text. Nevertheless, in order to prevent any confusion, this final rule corrects this error.

DATES: Effective Date: January 27, 2016.

FOR FURTHER INFORMATION CONTACT: Mr. John Cymbalsky, U.S. Department of Energy, Office of Energy Efficiency and Renewable Energy, Building Technologies Office, EE-5B, 1000 Independence Avenue SW., Washington, DC 20585-0121. Telephone: (202) 287-1692. Email: John.Cymbalsky@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION:

I. Background

On January 15, 2016, DOE's Office of Energy Efficiency and Renewable Energy published a final rule in the Federal Register titled, “Energy Conservation Standards for Residential Boilers” (hereafter referred to as the “January 2016 final rule”). 81 FR 2319. Since the publication of that final rule, it has come to DOE's attention that, due to a technical oversight, a certain part of the January 2016 final rule incorrectly recites the compliance date for the amended standards for residential boilers. Specifically in the third column of page 2321, the final rule states, “These standards apply to all residential boilers listed in Table I.1 and Table I.2 and manufactured in, or imported into, the United States starting on the date five years after January 15, 2021.” As properly reflected in the DATES section and the regulatory text, the compliance date is January 15, 2021. The erroneous language conflated “the date five years after publication of the final rule” with an instruction to the Federal Register to insert a date five years after date of publication of the final rule. This final rule corrects this error.

II. Need for Correction

As published, the compliance date reported on page 2321 of the January 15, 2016 final rule could potentially result in confusion regarding the date upon which compliance with the amended energy conservation standards for residential boilers is required. Because this final rule would simply correct the erroneous compliance date in this one location, thereby making it consistent with the proper compliance date reported at other places in the final rule, the change addressed in this document is technical in nature.

Correction

In final rule FR Doc. 2016-00025, appearing on page 2319 in the issue of Friday, January 15, 2016, the following correction should be made:

On page 2321, third column, second paragraph, the last sentence is corrected to read as follows:

These standards apply to all residential boilers listed in Table I.1 and Table I.2 and manufactured in, or imported into, the United States starting on January 15, 2021.

Issued in Washington, DC on January 21, 2016.
Kathleen B. Hogan,
Deputy Assistant Secretary for Energy Efficiency, Energy Efficiency and Renewable Energy.

[FR Doc. 2016-01655 Filed 1-26-16; 8:45 am]

BILLING CODE 6450-01-P